DEPARTMENT OF COMMERCE

International Trade Administration

[C-570-191]

Sol Gel Alumina-Based Ceramic Abrasive Grains From the People's Republic of China: Final Affirmative Countervailing Duty Determination

AGENCY: Enforcement and Compliance, International Trade Administration, Department of Commerce.

SUMMARY: The U.S. Department of Commerce (Commerce) determines that countervailable subsidies are being provided to producers and exporters of sol gel alumina-based ceramic abrasive grains (ceramic abrasive grains) from the People's Republic of China (China). The period of investigation (POI) is January 1, 2023, through December 31, 2023.

DATES: Applicable August 15, 2025.

FOR FURTHER INFORMATION CONTACT: Suresh Maniam, AD/CVD Operations, Office I, Enforcement and Compliance, International Trade Administration, U.S. Department of Commerce, 1401 Constitution Avenue NW, Washington, DC 20230; telephone: (202) 482-1603.

SUPPLEMENTARY INFORMATION:

Background

On May 22, 2025, Commerce published in the Federal Register the Preliminary Determination in this investigation and invited interested parties to comment.¹ We received no comments or case briefs from interested parties addressing any of the findings in the Preliminary Determination; therefore, we made no changes, and no decision memorandum accompanies this Federal Register notice. The Preliminary Determination is hereby adopted as this final determination. On May 29, 2025, and in accordance with section 705(a)(1) of the Tariff Act of 1930, as amended (the Act) and 19 CFR 351.210(b)(4)(i), Commerce aligned the final countervailing duty (CVD) determination with the final antidumping duty determination.² The deadline for the final determination is August 11, 2025.

¹ See Sol Gel Alumina-Based Ceramic Abrasive Grains from the People's Republic of China: Preliminary Affirmative Countervailing Duty Determination, 90 FR 21893 (May 22, 2025) (Preliminary Determination), and accompanying Preliminary Decision Memorandum (PDM).

² See Sol Gel Alumina-Based Ceramic Abrasive Grains from the People's Republic of China: Alignment of Final Countervailing Duty Determination with Final Less-Than-Fair-Value Determination, 90 FR 22698 (May 29, 2025).

Scope of the Investigation

The product covered by this investigation is ceramic abrasive grains from China. For a complete description of the scope of this investigation, see the appendix to this notice.

Scope Comments

We received no comments from interested parties on the scope of the investigation as it appeared in the Preliminary Determination and accompanying Preliminary Scope Decision Memorandum.³ Therefore, we made no changes to the scope of the investigation.

³ See Memorandum, “Less-Than-Fair-Value and Countervailing Duty Investigations of Sol Gel Alumina-Based Ceramic Abrasive Grains from the People's Republic of China: Preliminary Scope Decision Memorandum,” dated May 27, 2025 (Preliminary Scope Decision Memorandum).

Methodology

Commerce conducted this investigation in accordance with section 701 of the Act. For each of the subsidy programs found to be countervailable, Commerce determines that there is a subsidy, i.e., a financial contribution by an “authority” that gives rise to a benefit to the recipient, and that the subsidy is specific.⁴

⁴ See sections 771(5)(B) and (D) of the Act regarding financial contribution; section 771(5)(E) of the Act regarding benefit; and section 771(5A) of the Act regarding specificity.

In making this final determination, Commerce relied on facts available, including with an adverse inference, pursuant to sections 776(a) and (b) of the Act.

Verification

Because the mandatory respondents and the Government of China (GOC) did not participate, and Commerce preliminarily determined that the mandatory respondents and the GOC have been uncooperative, Commerce did not conduct verification.⁵

⁵ See Preliminary Determination, 90 FR at 21895.

All-Others Rate

Sections 703(d) and 705(c)(5)(A) of the Act provide that Commerce shall determine an estimated all-others rate for companies not individually examined. This rate shall be an amount equal to the weighted average of the estimated subsidy rates established for those companies individually examined, excluding any zero and de minimis rates and any rates based entirely under section 776 of the Act.

Pursuant to section 705(c)(5)(A)(ii) of the Act, if the individual estimated countervailable subsidy rates established for all exporters and producers individually examined are zero, de minimis , or determined based entirely on facts otherwise available, Commerce may use any reasonable method to establish the estimated subsidy rate for all other producers or exporters. In this investigation, Commerce has determined the estimated subsidy rate for the individually examined respondents under section 776 of the Act. This is the only rate available in this proceeding for deriving the all-others rate. Consequently, pursuant to sections 703(d) and 705(c)(5)(A)(ii) of the Act, Commerce established the all-others rate by applying the countervailable subsidy rate assigned to the non-responsive companies listed below. For a full description of the methodology underlying Commerce's analysis, see the Preliminary Decision Memorandum.⁶

⁶ See Preliminary Determination PDM at 7-12.

Final Determination

Commerce determines that the following estimated countervailable subsidy rates exist:

Company | Subsidy rate (percent ad valorem)
Qingdao SISA Abrasives Co., Ltd | * 165.05
Shandong Imerys Mount Tai Co., Ltd | * 165.05
Futong Industry Co., Ltd | * 165.05
Guangzhou Qianyang Metals & Machine | * 165.05
Kumthai Abrasives Co., Ltd | * 165.05
Luoyang Runbao Super Abrasives Co | * 165.05
More Superhard Products Co., Ltd | * 165.05
Qingdao Roy Grinding Material Co | * 165.05
Reckel Advanced Materials Co., Ltd | * 165.05
Zhengshou Haixu Abrasives Co | * 165.05
All Others | 165.05
* Rate is based on facts available with adverse inferences.

Disclosure

Normally, Commerce discloses to interested parties the calculations performed in connection with a final determination within five days of any public announcement or, if there is no public announcement, within five days of the date of publication of the notice of final determination in the Federal Register, in accordance with 19 CFR 351.224(b). However, because Commerce received no comments on the Preliminary Determination, it is adopting the Preliminary Determination as the final determination in this investigation. Consequently, there are no new calculations to disclose.

Continuation of Suspension of Liquidation

In accordance with sections 703(d)(1)(B) and (d)(2) of the Act, Commerce will instruct U.S. Customs and Border Protection (CBP) to collect cash deposits and suspend liquidation of entries of subject merchandise as described in the scope of the investigation section entered, or withdrawn from warehouse, for consumption on or after May 22, 2025, the date of publication of the Preliminary Determination in the Federal Register, at the cash deposit rate indicated above.

If the U.S. International Trade Commission (ITC) issues a final affirmative injury determination, we will issue a countervailing duty order, reinstate the suspension of liquidation under section 706(a) of the Act, and require a cash deposit of estimated countervailing duties for such entries of subject merchandise. If the ITC determines that material injury, or threat of material injury, does not exist, this proceeding will be terminated, and all estimated duties deposited or securities posted as a result of the suspension of liquidation will be refunded or canceled.

ITC Notification

In accordance with section 705(d) of the Act, Commerce will notify the ITC of its final affirmative determination that countervailable subsidies are being provided to producers and exporters of ceramic abrasive grains from China. As Commerce's final determination is affirmative, in accordance with section 705(b) of the Act, the ITC will determine, within 45 days, whether the domestic industry in the United States is materially injured, or threatened with material injury, by reason of imports of ceramic abrasive grains from China. In addition, we are making available to the ITC all non-privileged and non-proprietary information in our files, provided the ITC confirms that it will not disclose such information, either publicly or under administrative protective order (APO), without the written consent of the Assistant Secretary for Enforcement and Compliance.

Administrative Protective Order

In the event that the ITC issues a final negative injury determination, this notice will serve as the only reminder to parties subject to the APO of their responsibility concerning the destruction of proprietary information disclosed under APO, in accordance with 19 CFR 351.305(a)(3). Timely written notification of the return/destruction of APO materials or conversion to judicial protective order is hereby requested. Failure to comply with the regulations and terms of an APO is a violation which is subject to sanction.

Notification to Interested Parties

This determination is issued and published pursuant to sections 705(d) and 777(i) of the Act, and 19 CFR 351.210(c).

Dated: August 11, 2025.
Christopher Abbott,
Deputy Assistant Secretary for Policy and Negotiations, performing the non-exclusive functions and duties of the Assistant Secretary for Enforcement and Compliance.

Appendix

Scope of the Investigation

The merchandise covered by this investigation is sol gel alumina-based ceramic abrasive grains which are comprised of minimum 94% aluminum oxide (Al2O3), and may contain other compounds, including, but not limited to, titanium dioxide, silicon dioxide, calcium oxide, sodium superoxide, ferric oxide, magnesium oxide, di-aluminum magnesium tetroxide, lanthanum oxide, lanthanum magnesium oxide, zirconium dioxide, or zirconium carbonate. Grain sizes of sol gel alumina-based ceramic abrasive grains range from 0.85 mm to 0.0395 mm (which corresponds to American National Standards Institute (ANSI) grit sizes from 20 to 280).

Shapes include but are not limited to angular, sharp, extra sharp, blocky, splintery, round stripped, triangular or shaped like extruded rods or stars.

Ceramic abrasive grains have unique crystalline structures that impart certain advanced properties, such as their extreme hardness and strength ranging between 16 and 22 gigapascals by the Vickers Diamond Indent Method, high melting point (205 °C), and a single- or multi-phase microstructure, which may contain multiple phases, having crystalline sizes ranging from 0.05 to 30 μm. These ceramic abrasive grains include but are not limited to blue, white, white-translucent, or off-white opaque colors.

Sol gel alumina-based ceramic abrasive grains are covered by the scope of this investigation, whether or not incorporated into downstream articles, including but not limited to, abrasive papers, grinding wheels, grinding cylinders, and grinding discs. When incorporated into downstream articles, only the sol gel alumina-based ceramic abrasive grains component of such articles is covered by the product scope, and not the downstream product as a whole.

The merchandise subject to this investigation is properly classified under subheadings 2818.10.2010 and 2818.10.2090 of the Harmonized Tariff Schedule of the United States (HTSUS). Other merchandise subject to the current scope, including when incorporated into the abovementioned downstream articles, may be classified under HTSUS subheadings 2818.10.1000, 2818.20.0000, 2818.30.0000, 3824.99.1100, 3824.99.1900, 6805.10.0000, 6805.20.0000, 6805.30.1000, 6805.30.5000, 6804.22.1000, 6804.22.4000, 6804.22.6000, 8204.12.0000, 8474.90.0010, 8474.90.0020, 8474.90.0050, and 8474.90.0090. Although the HTSUS statistical reporting numbers are provided for convenience and customs purposes, the written description of the merchandise is dispositive.

[FR Doc. 2025-15569 Filed 8-14-25; 8:45 am]

BILLING CODE 3510-DS-P1